DEPARTMENT OF COMMERCE

International Trade Administration

[A-570-088]

Certain Steel Racks and Parts Thereof From the People's Republic of China: Amended Final Results of Antidumping Duty Administrative Review, 2019-2020

AGENCY: Enforcement and Compliance, International Trade Administration, Department of Commerce.

SUMMARY: The Department of Commerce (Commerce) is amending the final results of the administrative review of the antidumping duty order on certain steel racks and parts thereof from the People's Republic of China to correct ministerial errors. The period of review is March 4, 2019, through August 31, 2020.

DATES: Applicable June 3, 2022.

FOR FURTHER INFORMATION CONTACT: Jonathan Hill, AD/CVD Operations, Office IV, Enforcement and Compliance, International Trade Administration, U.S. Department of Commerce, 1401 Constitution Avenue NW, Washington, DC 20230; telephone: (202) 482-3518.

SUPPLEMENTARY INFORMATION:

Background

On April 1, 2022, Commerce disclosed its margin calculations in the final results of the above-referenced review.¹ On April 11, 2022, Nanjing Kingmore Logistics Equipment Manufacturing Co., Ltd. (Nanjing Kingmore), a mandatory respondent, timely alleged that Commerce made ministerial errors in calculating the company's weighted-average dumping margin in the Final Results.²

¹ See Certain Steel Racks and Parts Thereof from the People's Republic of China: Final Results of Antidumping Duty Administrative Review and Final Determination of No Shipments; 2019-2020, 87 FR 20817 (April 8, 2022) (Final Results), and accompanying Issues and Decision Memorandum; see also Memorandum, “2019-2020 Antidumping Duty Administrative Review of Certain Steel Racks and Parts Thereof from the People's Republic of China: Final Results Analysis Memorandum for Nanjing Kingmore Logistics Equipment Manufacturing Co., Ltd.,” dated April 1, 2022.

² See Nanjing Kingmore's Letter, “Certain Steel Racks and Parts Thereof from the People's Republic of China, Case No. A-570-088: Ministerial Error Allegation,” dated April 11, 2022.

Legal Framework

Commerce's regulations stipulate that it will disclose its calculations to parties to the proceeding and that those parties may submit comments concerning any alleged ministerial errors.³ If appropriate, Commerce will correct any ministerial errors by amending its determination.⁴ Ministerial errors are defined as “errors in addition, subtraction, or other arithmetic function, clerical errors resulting from inaccurate copying, duplication, or the like, and any other type of unintentional error which {Commerce} considers ministerial.” ⁵

³ See 19 CFR 351.224(b) and (c)(l).

⁴ See 19 CFR 351.224(e).

⁵ See section 751(h) of the Tariff Act of 1930, as amended (the Act); see also 19 CFR 351.224(f).

Ministerial Error

Commerce committed inadvertent, unintentional errors within the meaning of section 751(h) of the Act and 19 CFR 351.224(f) when it: (1) Used a surrogate value for U.S. inland freight rates that was in the wrong unit of measure, and; (2) failed to convert Nanjing Kingmore's reported distances for calculating U.S. inland freight costs from a character variable to a numeric variable.⁶

⁶ See Memorandum, “Administrative Review of the Antidumping Duty Order on Certain Steel Racks and Parts Thereof from the People's Republic of China: Ministerial Error Allegation,” dated concurrently with this notice.

Accordingly, we are amending the Final Results to reflect the corrections of these ministerial errors in the calculation of the weighted-average dumping margin for Nanjing Kingmore.⁷ Further, we are amending the review-specific rate assigned to the non-examined, separate rate companies based on the weighted-average dumping margins calculated for the mandatory respondents.⁸

⁷ See Memorandum, “2019-2020 Antidumping Duty Administrative Review of Certain Steel Racks and Parts Thereof from the People's Republic of China: Amended Final Results Analysis Memorandum for Nanjing Kingmore Logistics Equipment Manufacturing Co., Ltd.,” dated concurrently with this memorandum.

⁸ See Memorandum, “Antidumping Duty Administrative Review of Steel Racks and Parts Thereof from the People's Republic of China: Calculation of the Dumping Margin for Respondents Not Selected for Individual Examination for the Amended Final Results of Review,” dated concurrently with this notice.

Amended Final Results

After correcting for the ministerial errors described above, we determine that the following weighted-average dumping margins exist for the period March 4, 2019, through August 31, 2020:

Exporter | Weighted- average dumping margin (percent)
Nanjing Kingmore Logistics Equipment Manufacturing Co., Ltd | 15.04
Review-Specific Rate Applicable to the Following Non-Examined Companies:
Jiangsu Nova Intelligent Logistics Equipment Co., Ltd | 12.29
Nanjing Ironstone Storage Equipment Co., Ltd | 12.29
Suzhou (China) Sunshine Hardware & Equipment Imp. & Exp. Co., Ltd | 12.29
Xiamen Luckyroc Industry Co., Ltd | 12.29

Disclosure

Pursuant to 19 CFR 351.224(b), within five days of the publication of this notice in the Federal Register, we will disclose to the parties to this proceeding, the calculations that we performed for these amended final results of review.

Assessment Rates

Pursuant to section 751(a)(2)(C) of the Act and 19 CFR 351.212(b)(1), Commerce has determined, and U.S. Customs and Border Protection (CBP) shall assess, antidumping duties on all appropriate entries of subject merchandise covered by the amended final results of review. Commerce intends to issue assessment instructions to CBP no earlier than 35 days after the date of publication of these amended final results of review in the Federal Register. If a timely summons is filed at the U.S. Court of International Trade, the assessment instructions will direct CBP not to liquidate relevant entries until the time for parties to file a request for a statutory injunction has expired (i.e., within 90 days of publication).

Where the respondent's weighted-average dumping margin is zero or de minimis, or where an importer-specific ad valorem or per-unit rate is zero or de minimis, Commerce will instruct CBP to liquidate appropriate entries without regard to antidumping duties.⁹ For U.S. entries that were not reported in the U.S. sales data submitted by an exporter individually examined during this review, but that entered under the case number of that exporter (i.e., at the individually-examined exporter's cash deposit rate), Commerce will instruct CBP to liquidate such entries at the cash deposit rate for the China-wide entity (i.e., 144.50 percent).

⁹ See 19 CFR 351.106(c)(2).

We calculated importer-specific per-unit assessment rates for Nanjing Kingmore by dividing the total amount of dumping for reviewed sales of subject merchandise imported by the importer, or for reviewed sales of subject merchandise to a customer, as appropriate, by the total sales quantity associated with those transactions.

For the companies not individually examined in this administrative review that qualified for a separate rate, the assessment rate will be equal to the weighted-average dumping margins calculated for those companies in these amended final results of review.

Cash Deposit Requirements

The following cash deposit requirements will be effective for shipments of the subject merchandise entered, or withdrawn from warehouse, for consumption on or after the date of publication of this notice of the amended final results of review in the Federal Register, as provided by section 751(a)(2)(C) of the Act: (1) For the exporters listed in the table above, the cash deposit rate will be equal to the weighted-average dumping margin determined in these amended final results of review; (2) for previously investigated or reviewed China and non-China exporters not under review in this segment of the proceeding that have separate rates, the cash deposit rate will continue to be the existing exporter-specific cash deposit rate published from the completed segment for the most recent period; (3) for all China exporters of subject merchandise that have not been found to be entitled to a separate rate, the cash deposit rate will be the cash deposit rate previously established for the China-wide entity, which is 144.50 percent; and (4) for all non-China exporters of subject merchandise which have not received their own rate, the cash deposit rate will be the cash deposit rate applicable to the China exporter that supplied that non-China exporter.

These cash deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing this notice in accordance with sections 751(h) and 777(i)(1) of the Act, and 19 CFR 351.224(e).

Dated: May 25, 2022.
Lisa W. Wang,
Assistant Secretary for Enforcement and Compliance.

[FR Doc. 2022-11880 Filed 6-2-22; 8:45 am]

BILLING CODE 3510-DS-P